DEPARTMENT OF ENERGY

Federal Energy Regulatory Commission

Combined Notice of Filings #1

Take notice that the Commission received the following electric rate filings:

Docket Numbers: ER10-2835-004.

Applicants: Google Energy LLC.

Description: Notice of Non-Material Change in Status of Google Energy LLC.

Filed Date: 1/13/14.

Accession Number: 20140113-5167.

Comments Due: 5 p.m. ET 2/3/14.

Docket Numbers: ER11-4498-005; ER11-4499-005; ER14-325-001; ER11-4500-004; ER11-4507-004; ER12-128-002; ER11-4501-006; ER12-979-005; ER12-2542-002; ER12-2448-005.

Applicants: Smoky Hills Wind Farm, LLC, Smoky Hills Wind Project II, LLC, Enel Cove Fort, LLC, Enel Stillwater, LLC, Canastota Windpower, LLC, EGP Stillwater Solar, LLC, Caney River Wind Project, LLC, Rocky Ridge Wind Project, LLC, Prairie Rose Wind, LLC, Chisholm View Wind Project, LLC.

Description: Notice of Change in Status of Smokey Hills Wind Farm, LLC, et al.

Filed Date: 1/13/14.

Accession Number: 20140113-5175.

Comments Due: 5 p.m. ET 2/3/14.

Docket Numbers: ER13-2409-001; ER11-4498-006; ER11-4499-006; ER14-325-002; ER11-4500-005; ER11-4507-005; ER12-128-003; ER11-4501-007; ER12-979-006; ER12-2542-003; ER12-2448-006.

Applicants: Buffalo Dunes Wind Project, LLC, Smoky Hills Wind Farm, LLC, Smoky Hills Wind Project II, LLC, Enel Cove Fort, LLC, Enel Stillwater, LLC, Canastota Windpower, LLC, EGP Stillwater Solar, LLC, Caney River Wind Project, LLC, Rocky Ridge Wind Project, LLC, Prairie Rose Wind, LLC, Chisholm View Wind Project, LLC.

Description: Notice of Change in Status of Buffalo Dunes Wind Project, LLC, et al.

Filed Date: 1/13/14.

Accession Number: 20140113-5183.

Comments Due: 5 p.m. ET 2/3/14.

Docket Numbers: ER14-39-001.

Applicants: New York Independent System Operator, Inc.

Description: New York Independent System Operator, Inc. submits NYISO compliance filing of SCR ACL provisions to be effective 3/15/2014.

Filed Date: 1/10/14.

Accession Number: 20140110-5151.

Comments Due: 5 p.m. ET 1/24/14.

Docket Numbers: ER14-519-000.

Applicants: Astral Energy LLC.

Description: Supplement to December 3, 2013 Astral Energy LLC tariff filing.

Filed Date: 1/13/14.

Accession Number: 20140113-5159.

Comments Due: 5 p.m. ET 1/27/14.

Docket Numbers: ER14-722-000.

Applicants: Utility Expense Reduction, LLC.

Description: Supplement to December 19, 2013 Utility Expense Reduction, LLC tariff filing.

Filed Date: 1/13/14.

Accession Number: 20140113-5182.

Comments Due: 5 p.m. ET 1/27/14.

Docket Numbers: ER14-828-001.

Applicants: Kansas City Power & Light Company.

Description: Amendment to SPP Tariff Filing to be effective 3/1/2014.

Filed Date: 1/13/14.

Accession Number: 20140113-5113.

Comments Due: 5 p.m. ET 2/3/14.

Docket Numbers: ER14-829-001.

Applicants: KCP&L Greater Missouri Operations Company.

Description: Amendment to SPP Tariff Filing to be effective 3/1/2014.

Filed Date: 1/13/14.

Accession Number: 20140113-5117.

Comments Due: 5 p.m. ET 2/3/14.

Docket Numbers: ER14-984-000.

Applicants: AEP Texas North Company.

Description: TNC-Green Pastures Wind I IA to be effective 12/17/2013.

Filed Date: 1/13/14.

Accession Number: 20140113-5105.

Comments Due: 5 p.m. ET 2/3/14.

Docket Numbers: ER14-985-000.

Applicants: AEP Texas North Company.

Description: TNC-Green Pastures Wind II IA to be effective 12/17/2013.

Filed Date: 1/13/14.

Accession Number: 20140113-5108.

Comments Due: 5 p.m. ET 2/3/14.

Docket Numbers: ER14-986-000.

Applicants: Southern California Edison Company.

Description: SGIAs and Distribution Serv Agmts with Rosamond One and Rosamond Two to be effective 12/15/2013.

Filed Date: 1/13/14.

Accession Number: 20140113-5115.

Comments Due: 5 p.m. ET 2/3/14.

Take notice that the Commission received the following electric securities filings:

Docket Numbers: ES14-21-000.

Applicants: AEP Indiana Michigan Transmission Company, AEP Kentucky Transmission Company, Inc., AEP Oklahoma Transmission Company, Inc., AEP Southwestern Transmission Company, Inc., AEP West Virginia Transmission Company, Inc.

Description: Application under Section 204 of the Federal Power Act of AEP Indiana Michigan Transmission Company, Inc. et al for Authorization to Issue Securities.

Filed Date: 1/13/14.

Accession Number: 20140113-5173.

Comments Due: 5 p.m. ET 2/3/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 14, 2014.
Nathaniel J. Davis, Sr.,
Deputy Secretary.

[FR Doc. 2014-01141 Filed 1-21-14; 8:45 am]

BILLING CODE 6717-01-P